ENVIRONMENTAL PROTECTION AGENCY

[EPA-HQ-RCRA-2015-0606; FRL-9942-33-OEI]

Information Collection Request Submitted to OMB for Review and Approval; Comment Request; General Hazardous Waste Facility Standards (Renewal)

AGENCY: Environmental Protection Agency (EPA).

ACTION: Notice.

SUMMARY: The Environmental Protection Agency has submitted an information collection request (ICR), “General Hazardous Waste Facility Standards (Renewal)” (EPA ICR No. 1571.11, OMB Control No. 2050-0120) to the Office of Management and Budget (OMB) for review and approval in accordance with the Paperwork Reduction Act (44 U.S.C. 3501 et seq.). This is a proposed extension of the ICR, which is currently approved through February 29, 2016. Public comments were previously requested via the Federal Register (80 FR 65999) on October 28, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 18, 2016.

ADDRESSES: Submit your comments, referencing Docket ID Number EPA-HQ-RCRA-2015-0606, to (1) EPA online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Norma Abdul-Malik, Environmental Protection Agency, 1200 Pennsylvania Ave. NW., Washington, DC 20460; telephone number: 703-308-8753; fax number: 703-308-8617; email address: abdul-malik.norma@epamail.epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Section 3004 of the Resource Conservation and Recovery Act (RCRA), as amended, requires that the U.S. Environmental Protection Agency develop standards for hazardous waste treatment, storage, and disposal facilities (TSDFs) as may be necessary to protect human health and the environment. Subsections 3004(a)(1), (3), (4), (5), and (6) specify that these standards include, but not be limited to, the following requirements:

• Maintaining records of all hazardous wastes identified or listed under subtitle C that are treated, stored, or disposed of, and the manner in which such wastes were treated, stored, or disposed of;

• Operating methods, techniques, and practices for treatment, storage, or disposal of hazardous waste;

• Location, design, and construction of such hazardous waste treatment, disposal, or storage facilities;

• Contingency plans for effective action to minimize unanticipated damage from any treatment, storage, or disposal of any such hazardous waste; and

• Maintaining or operating such facilities and requiring such additional qualifications as to ownership, continuity of operation, training for personnel, and financial responsibility as may be necessary or desirable.

The regulations implementing these requirements are codified in 40 CFR parts 264 and 265. The collection of this information enables the EPA to properly determine whether owners/operators or hazardous waste treatment, storage, and disposal facilities meet the requirements of Section 3004(a) of RCRA.

Form Numbers: None.

Respondents/affected entities: Hazardous Waste Operators, State/Local/Tribal governments.

Respondent's obligation to respond: Mandatory (RCRA section 3004).

Estimated number of respondents: 1,872.

Frequency of response: On occasion.

Total estimated burden: 672,417 hours (per year). Burden is defined at 5 CFR 1320.03(b).

Total estimated cost: $41,759,144 (per year), includes $533,525 annualized capital or operation & maintenance costs.

Changes in the Estimates: There is no change in hours in the total estimated respondent burden compared with the ICR currently approved by OMB.

Courtney Kerwin,
Acting Director, Collection Strategies Division.

[FR Doc. 2016-03151 Filed 2-16-16; 8:45 am]

BILLING CODE 6560-50-P